DEPARTMENT OF STATE

[Public Notice 4934]

Secretary of State's Advisory Committee on Private International Law: Study Group on International Child Support Enforcement: Notice of Meeting

There will a public meeting of a Study Group of the Secretary of State's Advisory Committee on Private International Law on Wednesday, February 2, 2005, from 1-5 pm. The meeting will be held in the Monet (4) Room of Loew's L'Enfant Plaza Hotel, 480 L'Enfant Plaza, Washington, DC. The purpose of this meeting is to help the State Department and the HHS Office of Child Support Enforcement prepare for the April 2005 negotiating session of a new multilateral child support convention under the auspices of the Hague Conference on Private International Law. The draft text of the convention can be found on The Hague Conference Web site (http://hcch.e-vision.nl/upload/wop/maint_wd34e.pdf). The meeting is open to the public up to the capacity of the room.

Interested persons are invited to attend and to express their views. Persons who wish to have their views considered are encouraged, but not required, to submit written comments in advance of the meeting. Written comments should be submitted by e-mail to Mary Helen Carlson at carlsonmh@state.gov. All comments will be made available to the public by request to Ms. Carlson via e-mail or by phone ((202) 776-8420).

Dated: January 18, 2005.
Mary Helen Carlson,
Attorney-Adviser, Office of the Legal Adviser for Private International Law, Department of State.

[FR Doc. 05-1360 Filed 1-25-05; 8:45 am]

BILLING CODE 4710-08-P